FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 16, 2008.

A. Federal Reserve Bank of Kansas City (Todd Offerbacker, Assistant Vice President) 925 Grand Avenue, Kansas City, Missouri 64198-0001:

1. Gentner F. Drummond, Tulsa, Oklahoma; to acquire voting shares of Healthcare Bancorp, Inc., and thereby indirectly acquire First Bankcentre, Broken Arrow, Oklahoma.

2. Ricky Kunze, Roca Nebraska, as an individual, and as a member of the Kunze family group that consists of Amy Hunzeker and John Kostecka, both of Table Rock, Nebraska; Michelle Phillips, Omaha, Nebraska, and Spencer Kunze, Roca, Nebraska; to acquire voting shares of Duroc Investment Company, Table Rock, Nebraska and thereby indirectly acquire State Bank of Table Rock, Table Rock, Nebraska.

Board of Governors of the Federal Reserve System, March 27, 2008.
Robert deV. Frierson,
Deputy Secretary of the Board.

[FR Doc. E8-6680 Filed 4-1-08; 8:45 am]

BILLING CODE 6210-01-S